NUCLEAR REGULATORY COMMISSION

[Docket No. 50-333]

Entergy Nuclear Fitzpatrick, LLC, and Entergy Nuclear Operations, Inc.; James A. Fitzpatrick Nuclear Power Plant Environmental Assessment and Finding of No Significant Impact

The U.S. Nuclear Regulatory Commission (NRC) is considering issuance of an exemption from certain requirements of Section III.G.2.c of Appendix R to 10 CFR Part 50 to Entergy Nuclear FitzPatrick, LLC, and Entergy Nuclear Operations, Inc. (the licensee), in connection with Facility Operating License No. DPR-59 for operation of the James A. FitzPatrick Nuclear Power Plant located in Oswego County, New York.

Environmental Assessment

Identification of the Proposed Action

The proposed action would provide an exemption from the technical requirements of Section III.G.2.c of Appendix R to 10 CFR Part 50 to the extent that it requires the enclosure of cables of one redundant train of safe shutdown equipment in a 1-hour fire rated barrier, in fire area Control Tunnel 1 (CT-1).

The proposed action is in accordance with the application for exemption dated October 30, 2000, filed by the former licensee, the Power Authority of the State of New York (PASNY), as supplemented by the Entergy Nuclear Operations, Inc. letter dated February 7, 2001. On November 21, 2000, PASNY's interests in the license were transferred to Entergy Nuclear FitzPatrick, LLC, which is authorized to possess and use FitzPatrick and to Entergy Nuclear Operations, Inc., which is authorized to possess, use and operate FitzPatrick. By letter dated January 26, 2001, Entergy Nuclear Operations, Inc. requested that the U.S. Nuclear Regulatory Commission (NRC) continue to review and act on all requests before the NRC which had been submitted by PASNY.

The Need for the Proposed Action

The proposed action is needed to support continued operation with cable wrap fire barriers in CT-1 that do not have a rating of 1 hour.

No Significant Environmental Impacts of the Proposed Action

The NRC has completed its evaluation of the proposed action and concludes that there would be no significant environmental impact as a result of the proposed action. While the installed fire barrier in CT-1 has less than a 1-hour fire endurance rating, it will provide some resistance to fire. The area where the fire barrier is located has no ignition sources other than cables, has available manual suppression capability, and is equipped with automatic fire suppression and fire detection. Under these circumstances, there is an adequate level of fire safety that there is reasonable assurance that at least one means of achieving and maintaining safe shutdown conditions will remain available during and after any postulated fire, and, therefore, the underlying purpose of the rule is met.

The proposed action will not significantly increase the probability or consequences of accidents, no changes are being made in the types of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant non-radiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for the James A. FitzPatrick Nuclear Power Plant.

Agencies and Persons Consulted

In accordance with its stated policy, on March 22, 2001, the staff consulted with the New York State State official, Jay Dunkleberger, of the New York State Research and Development Authority, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see PASNY's letter dated October 30, 2000, as supplemented by Entergy Nuclear Operations, Inc.'s letter dated February 7, 2001. Documents may be examined, and/or copied for a fee, at the NRC's Public Document Room, located at One White Flint North, 11555 Rockville Pike (first floor), Rockville, Maryland. Publicly available records will be accessible electronically from the ADAMS Public Library component on the NRC Web site, http:\\www.nrc.gov (the Electronic Reading Room).

Dated at Rockville, Maryland, this 11th day of May 2001.
The Nuclear Regulatory Commission.
Guy S. Vissing,
Senior Project Manager, Section 1, Project Directorate I, Division of Licensing Project Management, Office of Nuclear Reactor Regulation.

[FR Doc. 01-12413 Filed 5-16-01; 8:45 am]

BILLING CODE 7590-01-P